ENVIRONMENTAL PROTECTION AGENCY

40 CFR Part 63

[EPA-HQ-OAR-2013-0290 and EPA-HQ-OAR-2013-0291; FRL-9939-35-OAR]

RIN 2060-AP69

NESHAP for Brick and Structural Clay Products Manufacturing; and NESHAP for Clay Ceramics Manufacturing: Correction

AGENCY: Environmental Protection Agency (EPA).

ACTION: Final rule; correction.

SUMMARY: The Environmental Protection Agency (EPA) published a final rule in the Federal Register on October 26, 2015, titled NESHAP for Brick and Structural Clay Products Manufacturing; and NESHAP for Clay Ceramics Manufacturing. These amendments make two technical corrections to the published regulation.

DATES: This action is effective December 28, 2015.

FOR FURTHER INFORMATION CONTACT: Ms. Sharon Nizich, Sector Policies and Programs Division (D243-04), Office of Air Quality Planning and Standards, U.S. Environmental Protection Agency, Research Triangle Park, North Carolina 27711, telephone number: (919) 541-2825; facsimile number: (919) 541-5450; email address: nizich.sharon@epa.gov. For information about the applicability of the national emission standards for hazardous air pollutants, contact Mr. Patrick Yellin, Monitoring, Assistance and Media Programs Division (2227A), Office of Enforcement and Compliance Assurance, U.S. Environmental Protection Agency, 1200 Pennsylvania Avenue, Washington, DC 20460; telephone number (202) 564-2970; email address yellin.patrick@epa.gov.

SUPPLEMENTARY INFORMATION: The EPA published a document in the Federal Register of October 26, 2015 (80 FR 65470). There were two errors included in the final rule. First, the reference to the IBR method (ASTM D6348-03) was incorrect. The incorrect IBR method reference included in the Federal Register was paragraph (h)(75). The correct reference is paragraph (h)(76). Second, there was a typographical error in 40 CFR 63.8605(c) referencing a requirement of a non-existing section. The incorrect non-existing reference is 40 CFR 63.8630(e). The correct reference is 40 CFR 63.8630(c).

Correction

In rule FR Doc. 2015-25724 published on October 26, 2015 (80 FR 65470), make the following corrections:

§ 63.14 [Corrected]

1. On page 65520:

a. In the second column, correct amendatory instruction number 2.b. to read “Revising paragraph (h)(76);”.

b. In the second column, redesignate paragraph (h)(75) as paragraph (h)(76).

§ 63.8605 [Corrected]

2. On page 65549, second column, in paragraph (c), fifth line, remove “§ 63.8630(e).” and add “§ 63.8630(c).” in its place.

Dated: November 18, 2015.
Janet G. McCabe,
Acting Assistant Administrator, Office of Air and Radiation.

[FR Doc. 2015-30379 Filed 12-3-15; 8:45 am]

BILLING CODE 6560-50-P